NUCLEAR REGULATORY COMMISSION

[NRC-2012-0002]

Notice of Sunshine Act Meetings

AGENCY: Nuclear Regulatory Commission.

DATE: Weeks of November 5, 12, 19, 26, December 3, 10, 2012.

PLACE: Commissioners' Conference Room, 11555 Rockville Pike, Rockville, Maryland.

STATUS: Public and Closed.

Week of November 5, 2012

Monday, November 5, 2012

1:30 p.m. NRC All Employees Meeting (Public Meeting), Marriott Bethesda North Hotel, 5701 Marinelli Road, Rockville, MD 20852.

Thursday, November 8, 2012

9:30 a.m. Discussion of Management Issues (Closed—Ex. 2).

Week of November 12, 2012—Tentative

There are no meetings scheduled for the week of November 12, 2012.

Week of November 19, 2012—Tentative

There are no meetings scheduled for the week of November 19, 2012.

Week of November 26, 2012—Tentative

Tuesday, November 27, 2012

9:00 a.m. Briefing on Operator Licensing Program (Public Meeting)

(Contact: Jack McHale, 301-415-3254).

This meeting will be webcast live at the Web address— www.nrc.gov.

Thursday, November 29, 2012

2:30 p.m. Briefing on Security issues (Closed Ex-1).

Week of December 3, 2012—Tentative

Thursday, December 6, 2012.

9:30 a.m. Meeting with the Advisory Committee on Reactor Safeguards, (ACRS) (Public Meeting),

(Contact: Ed Hackett, 301-415-7360).

This meeting will be webcast live at the Web address— www.nrc.gov.

Week of December 10, 2012—Tentative

There are no meetings scheduled for the week of December 10, 2012.

* * * * *

*The schedule for Commission meetings is subject to change on short notice. To verify the status of meetings, call (recording)—301-415-1292. Contact person for more information: Rochelle Bavol, 301-415-1651.

* * * * *

Additional Information

The Affirmation session, Southern California Edison Co. (San Onofre Nuclear Generating Station), Docket Nos. 50-361 and 50-362-CAL, Petition to Intervene, Request for Hearing, and Stay Application (June 18, 2012), schedule on October 30, 2012, was postponed. The Briefing on Fort Calhoun scheduled on October 30, 2012 was postponed.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: November 1, 2012.
Rochelle C. Bavol,
Policy Coordinator, Office of the Secretary.

[FR Doc. 2012-27181 Filed 11-2-12; 4:15 pm]

BILLING CODE 7590-01-P